ENVIRONMENTAL PROTECTION AGENCY

[FRL-9915-10-Region 10]

Reissuance of the NPDES General Permit for Groundwater Remediation Facilities in Idaho (Permit Number IDG911000)

AGENCY: Environmental Protection Agency (EPA).

ACTION: Notice of availability of final NPDES General Permit.

SUMMARY: The Associate Director, Office of Water and Watersheds, EPA Region 10, is publishing this notice of availability of the final National Pollutant Discharge Elimination System (NPDES) General Permit for Groundwater Remediation Facilities in Idaho (the GWGP), Permit No. IDG911000. The GWGP authorizes groundwater discharges to waters of the United States in Idaho, as authorized by Section 402 of the Clean Water Act (CWA), 33 U.S.C. 1342. The GWGP contains effluent limitations and other requirements that ensure that these remediated groundwater discharges will not cause or contribute to impairments of the beneficial uses of the receiving waters or impair other surface water quality standards (WQS) codified at Idaho Administrative Procedures Act (IDAPA) 58.01.02

DATES: The issuance date of the GWGP is August 28, 2014. The GWGP shall become effective on September 15, 2014. New operators seeking coverage under the GWGP must submit a Notice of Intent (NOI) to discharge at least 180 days prior to the anticipated commencement of a discharge. Operators that have administratively extended coverage under the 2007 GWGP shall be authorized to discharge upon receipt of an EPA authorization letter after the GWGP becomes effective. These dischargers include Univar USA, Inc., PacifiCorp Idaho Falls Pole Yard, and McCall Oil and Chemical Company. A new facility seeking coverage, Boise State University (BSU), submitted an initial application on January 25, 2013 and additional NOI information on October 25, 2013. BSU will also be authorized to discharge under the GWGP upon receipt of an EPA authorization letter after the GWGP becomes effective.

ADDRESSES: Copies of the GWGP, the Response to Comments document, and the Fact Sheet may be found on the Region 10 Web site at http://www.epa.gov/region10/water/npdes/generalpermits.html. Copies of the documents are also available upon request. Written requests for copies of the documents may be submitted to EPA, Region 10, 1200 Sixth Avenue, Suite 900, OWW-130, Seattle, WA 98101. Electronic requests may be sent to: washington.audrey@epa.gov. Requests by telephone may be made to Audrey Washington at (206) 553-0523.

For Further Information Contact: Jill Nogi at (206) 553-1841 or nogi.jill@epa.gov

SUPPLEMENTARY INFORMATION:

On June 30, 2012, the previous NPDES General Permit for Groundwater Remediation Facilities in Idaho (GWGP) expired. EPA solicited public comments on the draft GWGP in the Federal Register on April 3, 2014. The GWGP no longer provides authorization for groundwater discharges from mining operations. Those existing mining operations with an EPA administrative extension of coverage under the 2007 General Permit may continue to operate under the limitations and conditions specified under the 2007 General Permit until such time as a new Permit is issued for those facilities.

Notices of the draft GWGP were published in the Idaho Statesman and the Idaho Hispano newspapers on April 3, 2014, and the City of Nampa Parks and Recreation Summer Activity Guide on April 15, 2014. An informational public meeting was held in Boise on May 1, 2014. The 45-day comment period closed on May 19, 2014. Changes have been made to the GWGP in response to comments received during the public review period. All comments, along with the EPA's responses, are summarized in the Response to Comments document.

State Certification of the Idaho GWGP. Pursuant to Section 401 of the Clean Water Act, 33 U.S.C. 1341, on July 25, 2014, the State of Idaho Department of Environmental Quality (DEQ) certified that the conditions of the GWGP comply with State WQS at IDAPA 58.01.02, including the State's antidegradation policy.

Endangered Species Act. Section 7 of the Endangered Species Act (ESA), 16 U.S.C. 1531-1544, requires federal agencies to consult with the National Marine Fisheries Service (NMFS) and the U.S. Fish and Wildlife Service (USFWS) if their actions have the potential to either beneficially or adversely affect any threatened or endangered species, or designated critical habitat.

EPA evaluated the GWGP and determined that the issuance of the GWGP will have no effect on any threatened, endangered, or candidate species; designated critical habitat; and therefore, ESA consultation was not required.

Essential Fish Habitat. The Magnuson-Stevens Fishery Conservation and Management Act requires EPA to consult with NOAA-NMFS when a proposed discharge has the potential to adversely affect an Essential Fish Habitat (EFH). EPA's EFH assessment concluded that the discharges authorized by the GWGP will not adversely affect EFH or those species regulated under a Federal Fisheries Management Plan.

Executive Order 12866. The Office of Management and Budget (OMB) exempts this action from the review requirements of Executive Order 12866 pursuant to Section 6 of that order.

Paperwork Reduction Act. The information collection requirements of the GWGP are consistent with the Paperwork Reduction Act of 1980, 44 U.S.C. 3501 et seq.

Regulatory Flexibility Act. 5 U.S.C. 601 et seq., requires that EPA prepare a regulatory flexibility analysis on rules subject to the requirements of the Administrative Procedures Act [APA, 5 U.S.C. 553] that have a significant impact on a substantial number of small entities. However, EPA has concluded that NPDES General Permits are not rulemakings under the APA, and are therefore not subject to APA rulemaking requirements or the Regulatory Flexibility Act (RFA).

Unfunded Mandates Reform Act. Section 201 of the Unfunded Mandates Reform Act (UMRA), Public Law 104-4, generally requires federal agencies to assess the effects of their regulatory actions (defined to be the same as rules subject to the RFA) on tribal, state, and local governments and the private sector. However, the Idaho GWGP is not subject to the RFA, and are therefore not subject to the UMRA.

Appeal of Permit. Any interested person may appeal the Idaho GWGP in the Federal Court of Appeals in accordance with section 509(b)(1) of the Clean Water Act, 33 U.S.C. 1369(b)(1). This appeal must be filed within 120 days of the Permit issuance date. Persons affected by the Permit may not challenge the conditions of the Permit in further EPA proceedings (see 40 CFR 124.19). Instead, they may either challenge the Permit in court or apply for an individual NPDES Permit.

Authority: This action is taken under the authority of Section 402 of the Clean Water Act, 33 U.S.C. 1342. I hereby provide public notice of the final Permit action in accordance with 40 CFR 124.15(b).

Dated: August 4, 2014.
Christine Psyk,
Associate Director, Office of Water & Watersheds, Region 10, U.S. Environmental Protection Agency.

[FR Doc. 2014-19063 Filed 8-11-14; 8:45 am]

BILLING CODE 6560-50-P